EQUAL EMPLOYMENT OPPORTUNITY COMMMISSION

Sunshine Act Notice

TIME AND DATE: Thursday, August 27, 2020, 1:00 p.m. Eastern Time

PLACE: Because of the COVID-19 pandemic, the meeting will be held as an audio-only conference.

STATUS: The meeting will be closed to the public.

MATTERS TO BE CONSIDERED: The following item will be considered at the meeting:

Formal Opinion Letter Discussing the Commission's Authority under Section 707 of the Civil Rights Act of 1964

Closed Session

The Legal Counsel has certified that, in his opinion, the Commission meeting scheduled for August 27, 2020 at 1 p.m. (and portions of any subsequent meeting within the following 30 days to which those same matters may be carried over) concerning a Formal Opinion Letter discussing the Commission's authority under section 707 of the Civil Rights Act of 1964 may properly be closed under the 10th exemption to the Government in the Sunshine Act, 5 U.S.C. 552b(c)(10), and Commission regulation at 29 CFR 1612.4(j).

NOTE: (In addition to publishing notices on EEOC Commission meetings in the Federal Register, the Commission also provides information about Commission meetings on its website, www.eeoc.gov., and provides a recorded announcement a week in advance on future Commission sessions.)

Please telephone (202) 663-7100 (voice) or email commissionmeetingcomments@eeoc.gov at any time for information on this meeting.

CONTACT PERSON FOR MORE INFORMATION: Bernadette B. Wilson, Executive Officer on (202) 663-4077.

Bernadette B. Wilson,
Executive Officer, Executive Secretariat.

[FR Doc. 2020-18667 Filed 8-20-20; 4:15 pm]

BILLING CODE 6570-01-P